EXPORT-IMPORT BANK

Application for Final Commitment for a Long-Term Loan or Financial Guarantee in Excess of $100 Million: AP089523XX

AGENCY: Export-Import Bank of the United States.

ACTION: Notice.

SUMMARY: This Notice is to inform the public the Export-Import Bank of the United States (“EXIM”) has received an application for final commitment for a long-term loan or financial guarantee in excess of $100 million. Comments received within the comment period specified below will be presented to the EXIM Board of Directors prior to final action on this Transaction.

DATES: Comments must be received on or before September 3, 2024 to be assured of consideration before final consideration of the transaction by the Board of Directors of EXIM.

ADDRESSES: Comments may be submitted through Regulations.gov at WWW.REGULATIONS.GOV. To submit a comment, enter AP089523XX under the heading “Enter Keyword or ID” and select Search. Follow the instructions provided at the Submit a Comment screen. Please include your name, company name (if any) and AP089523XX on any attached document.

SUPPLEMENTARY INFORMATION:

Reference: AP089523XX

Purpose and Use:

Brief description of the purpose of the transaction: The generation of power through the recovery of waste heat via the conversion of the existing Kirkuk simple cycle power plant to a combined cycle power plant.

Brief non-proprietary description of the anticipated use of the items being exported: Provide power via waste heat recovery to increase the availability and reliability of power for the Iraqi people. Once completed, the combined cycle power plant will increase the production of power by 285 MW or 50% and increase plant fuel efficiency by 17%. Because of the increased production of electricity, the project will result in a 31.2% reduction in greenhouse gas emissions per MWh of electricity generated.

Parties:

Principal Supplier: Stellar Energy Americas, Inc., of Jacksonville, Florida.

Lender: J.P. Morgan Chase Bank N.A.-London Branch, London, United Kingdom.

Obligor: Ministry of Finance of the Republic of Iraq.

Guarantor(s): None.

Description of Items Being Exported: Engineering, procurement, construction, design, and training services.

Information on Decision: Information on the final decision for this transaction will be available in the “Summary Minutes of Meetings of Board of Directors” on http://exim.gov/newsandevents/boardmeetings/board/.

Confidential Information: Please note that this notice does not include confidential or proprietary business information; information which, if disclosed, would violate the Trade Secrets Act; or information which would jeopardize jobs in the United States by supplying information that competitors could use to compete with companies in the United States.

Authority: Section 3(c)(10) of the Export-Import Bank Act of 1945, as amended (12 U.S.C. 635a(c)(10)).

Deidre Hodge,
Assistant Corporate Secretary.

[FR Doc. 2024-17747 Filed 8-8-24; 8:45 am]

BILLING CODE 6690-01-P